PEACE CORPS

Proposed Information Collection Renewal

ACTION: 30-day notice of submission of information collection for approval from the Office of Management and Budget; Comment request.

SUMMARY: The Peace Corps has submitted an information collection request to the Office of Management and Budget (OMB) for extension under the provisions of the Paperwork Reduction Act of 1995. The information collection requests an extension, without change, of a currently approved information collection. This notice invites the public to comment on the renewal of the Peace Corps' Confidential Reference Form (OMB Control No. 0420-0006). Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

DATES: Comments regarding this collection must be received on or before December 16, 2010.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@peacecorps.gov, mail to: ddunevant@peacecorps.gov. Copies of available documents submitted to OMB may be obtained from Denora Miller.

SUPPLEMENTARY INFORMATION: Proposal to renew the following currently approved collection of information:

Title: Confidential Reference Form.

OMB Control Number: 0420-0006.

Type of Review: Extension, without change, currently approved collection.

Respondents: Volunteer applicants.

Respondents Obligation to Reply: Voluntary.

Burden to the Public:

a. Estimated annual number of respondents: 33,000.

b. Estimated average time to respond: 30 minutes.

c. Estimated total annual burden hours: 16,500 hours.

d. Frequency of response: One time.

e. Estimated cost to respondents: $0.00.

f. Estimated number of applicants who submit references: 13,400.

g. Number of required references per applicant: 3.

h. Estimated number of references received: 40,200.

i. Estimated annual burden hours for references: 20,100. (13,400 applicants ×3 references/30 minutes).

Needs and Uses: The form is an integral part of the screening and selection process conducted by the Office of Volunteer Recruitment and Selection. The purpose of this information collection is to assist in processing applicants for volunteer service in determining suitability of applicants.

Dated: November 10, 2010.
Garry W. Stanberry,
Deputy Associate Director, Management.

[FR Doc. 2010-28833 Filed 11-15-10; 8:45 am]

BILLING CODE P